NATIONAL SCIENCE FOUNDATION

Special Emphasis Panel in Design, Manufacturing, and Industrial Innovation; Notice of Cancellation of Meetings

In accordance with the Federal Advisory Committee Act (Pub. L. 92-463, as amended), the National Science Foundation announces that the following meetings have been cancelled:

Name: Special Emphasis Panel in Design, Manufacturing, and Industrial Innovation (61).

Date/Time; March 15, 16, 24, & 31, 2000; 8:30 a.m.-5:00 p.m.

Contact Person: Joseph Hennessey, Program Manager, Small Business Innovation Research and Small Business Technology Transfer Programs, Room 590, Division of Design, Manufacturing, and Industrial Innovation, National Science Foundation, 4201 Wilson Boulevard, VA 22230. Telephone (703) 306-1395, extension 5283.

Dated: March 10, 2000.
Karen J. York,
Committee Management Officer.

[FR Doc. 00-6360 Filed 3-14-00; 8:45 am]

BILLING CODE 7555-01-M